ENVIRONMENTAL PROTECTION AGENCY

[Docket# EPA-R04-SFUND-2009-0300, FRL-8903-3]

Swift Thermometer Superfund Site, Dickson, Dickson County, TN; Notice of Settlement

AGENCY: Environmental Protection Agency.

ACTION: Notice of settlement.

SUMMARY: Under section 122(h)(1) of the Comprehensive Environmental Response, Compensation and Liability Act (CERCLA), the United States Environmental Protection Agency has entered into a settlement for reimbursement of past response costs concerning the Swift Thermometer Superfund Site located in Dickson, Dickson County, Tennessee for publication.

DATES: The Agency will consider public comments on the settlement until June 12, 2009. The Agency will consider all comments received and may modify or withdraw its consent to the settlement if comments received disclose facts or considerations which indicate that the settlement is inappropriate, improper, or inadequate.

ADDRESSES: Copies of the settlement are available from Ms. Paula V. Painter. Submit your comments, identified by Docket ID No. EPA-R04-SFUND 2009-0300 or Site name Swift Thermometer Superfund Site by one of the following methods:

• http://www.regulations.gov: Follow the on-line instructions for submitting comments.

• http://www.epa gov/region4/waste/sf/enforce.htm.

• E-mail: Painter.Paula@epa.gov.

FOR FURTHER INFORMATION CONTACT: Paula V. Painter at 404/562-8887.

Dated: April 24, 2009.
Anita L. Davis,
Chief, Superfund Enforcement & Information Management Branch, Superfund Division.

[FR Doc. E9-11054 Filed 5-12-09; 8:45 am]

BILLING CODE P